DEPARTMENT OF LABOR

Employment Standards Administration, Wage and Hour Division

Minimum Wages for Federal and Federally Assisted Construction; General Wage Determination Decisions

General wage determination decisions of the Secretary of Labor are issued in accordance with applicable law and are based on the information obtained by the Department of Labor from its study of local wage conditions and data made available from other sources. They specify the basic hourly wage rates and fringe benefits which are determined to be prevailing for the described classes of laborers and mechanics employed on construction projects of a similar character and in the localities specified therein.

The determinations in these decisions of prevailing rates and fringe benefits have been made in accordance with 29 CFR Part 1, by authority of the Secretary of Labor pursuant to the provisions of the Davis-Bacon Act of March 3, 1931, as amended (46 Stat. 1494, as amended, 40 U.S.C. 276(a)) and of the other Federal statutes referred to in 29 CFR Part 1, Appendix, as well as such additional statutes as may from time to time be enacted containing provisions for the payment of wages determined to be prevailing by the Secretary of Labor in accordance with the Davis-Bacon Act. The prevailing rates and fringe benefits determined in these decisions shall, in accordance with the provisions of the foregoing statutes, constitute the minimum wages payable on Federal and federally assisted construction projects to laborers and mechanics of the specified classes engaged on contract work of the character and in the localities described therein.

Good cause is hereby found for not utilizing notice and public comment procedure thereon prior to the issuance of these determinations as prescribed in 5 U.S.C. 553 and not providing for delay in the effective date as prescribed in that section, because the necessity to issue current construction industry wage determinations frequently and in large volume causes procedures to be impractical and contrary to the public interest.

General wage determination decisions, and modifications and supersedes decisions thereto, contain no expiration dates and are effective from their date of notice in the Federal Register, or on the date written notice is received by the agency, whichever is earlier. These decisions are to be used in accordance with the provisions of 29 CFR Parts 1 and 5. Accordingly, the applicable decision, together with any modifications issued, must be made a part of every contract for performance of the described work within the geographic area indicated as required by an applicable Federal prevailing wage law and 29 CFR Part 5. The wage rates and fringe benefits, notice of which is published herein, and which are contained in the Government Printing Office (GPO) document entitled “General Wage Determinations Issued Under the Davis-Bacon And Related Acts,” shall be the minimum paid by contractors and subcontractors to laborers and mechanics.

Any person, organization, or governmental agency having an interest in the rates determined as prevailing is encouraged to submit wage rate and fringe benefit information for consideration by the Department.

Further information and self-explanatory forms for the purpose of submitting this data may be obtained by writing to the U.S. Department of Labor, Employment Standards Administration, Wage and Hour Division, Division of Wage Determinations, 200 Constitution Avenue, NW., Room S-3014, Washington, DC 20210.

Modification to General Wage Determination Decisions

The number of the decisions listed to the Government Printing Office document entitled “General Wage Determinations Issued Under the Davis-Bacon and Related Acts” being modified are listed by Volume and State. Dates of publication in the Federal Register are in parentheses following the decisions being modified.

Volume I

None

Volume II

Pennsylvania

PA020001 (Mar. 1, 2002)

PA020002 (Mar. 1, 2002)

PA020004 (Mar. 1, 2002)

PA020007 (Mar. 1, 2002)

PA020008 (Mar. 1, 2002)

PA020009 (Mar. 1, 2002)

PA020010 (Mar. 1, 2002)

PA020012 (Mar. 1, 2002)

PA020013 (Mar. 1, 2002)

PA020015 (Mar. 1, 2002)

PA020016 (Mar. 1, 2002)

PA020018 (Mar. 1, 2002)

PA020019 (Mar. 1, 2002)

PA020020 (Mar. 1, 2002)

PA020021 (Mar. 1, 2002)

PA020023 (Mar. 1, 2002)

PA020027 (Mar. 1, 2002)

PA020028 (Mar. 1, 2002)

PA020029 (Mar. 1, 2002)

PA020038 (Mar. 1, 2002)

PA020040 (Mar. 1, 2002)

PA020042 (Mar. 1, 2002)

PA020051 (Mar. 1, 2002)

PA020053 (Mar. 1, 2002)

PA020055 (Mar. 1, 2002)

PA020060 (Mar. 1, 2002)

PA020061 (Mar. 1, 2002)

PA020062 (Mar. 1, 2002)

PA020065 (Mar. 1, 2002)

Volume III

Georgia

GA020003 (Mar. 1, 2002)

GA020004 (Mar. 1, 2002)

GA020006 (Mar. 1, 2002)

GA020022 (Mar. 1, 2002)

GA020023 (Mar. 1, 2002)

GA020031 (Mar. 1, 2002)

GA020032 (Mar. 1, 2002)

GA020034 (Mar. 1, 2002)

GA020040 (Mar. 1, 2002)

GA020041 (Mar. 1, 2002)

GA020044 (Mar. 1, 2002)

GA020050 (Mar. 1, 2002)

GA020055 (Mar. 1, 2002)

GA020073 (Mar. 1, 2002)

GA020083 (Mar. 1, 2002)

GA020084 (Mar. 1, 2002)

GA020085 (Mar. 1, 2002)

GA020086 (Mar. 1, 2002)

GA020087 (Mar. 1, 2002)

GA020088 (Mar. 1, 2002)

Mississippi

MS020031 (Mar. 1, 2002)

Volume IV

None

Volume V

Louisiana

LA020001 (Mar. 1, 2002)

LA020005 (Mar. 1, 2002)

LA020009 (Mar. 1, 2002)

LA020018 (Mar. 1, 2002)

Volume VI

None

Volume VII

None

General Wage Determination Publication

General wage determinations issued under the Davis-Bacon and related Acts, including those noted above, may be found in the Government Printing Office (GPO) document entitled “General Wage Determinations Issued Under the Davis-Bacon And Related Acts”. This publication is available at each of the 50 Regional Government Depository Libraries and many of the 1,400 Government Depository Libraries across the country.

General wage determinations issued under the Davis-Bacon and related Acts are available electronically at no cost on the Government Printing Office site at http://www.access.gpo.gov/davisbacon. They are also available electronically by subscription to the Davis-Bacon Online Service (http://davisbacon.fedworld.gov) of the National Technical Information Service (NTIS) of the U.S. Department of Commerce at 1-800-363-2068. This subscription offers value-added features such as electronic delivery of modified wage decisions directly to the user's desktop, the ability to access prior wage decisions issued during the year, extensive Help Desk Support, etc.

Hard-copy subscriptions may be purchased from: Superintendent of Documents, U.S. Government Printing Office, Washington, DC 20402, (202) 512-1800.

When ordering hard-copy subscription(s), be sure to specify the State(s) of interest, since subscriptions may be ordered for any or all of the six separate Volumes, arranged by State. Subscriptions include an annual edition (issued in January or February) which includes all current general wage determinations for the States covered by each volume. Throughout the remainder of the year, regular weekly updates will be distributed to subscribers.

Signed at Washington, DC this 21st day of February 2003.
Terry Sullivan,
Acting Chief, Branch of Construction Wage Determinations.

[FR Doc. 03-4498 Filed 2-27-03; 8:45 am]

BILLING CODE 4510-27-M